DEPARTMENT OF THE TREASURY

Office of the Secretary

31 CFR Part 1

Freedom of Information Act, Privacy Act of 1974; Implementation

AGENCY: Department of the Treasury.

ACTION: Final rule.

SUMMARY: This document amends the Department of the Treasury's regulations on the disclosure of records under the Freedom of Information Act (FOIA) and its regulations concerning the Privacy Act of 1974 (Privacy Act). It also amends the appendices to these subparts setting forth the administrative procedures by which the Special Inspector General for the Troubled Asset Relief Program (“SIGTARP”) will process requests for records made under the FOIA, and setting forth the administrative procedures by which SIGTARP will implement the Privacy Act. In addition, the document revises the list of Treasury offices and bureaus found in this part.

DATES: Effective Date: January 6, 2010.

FOR FURTHER INFORMATION CONTACT: Dale Underwood, Privacy Act Officer, Department of the Treasury, phone number 202-622-0874 or dale.underwood@do.treas.gov.

SUPPLEMENTARY INFORMATION: These regulations update the list of Treasury bureaus and offices enumerated in 31 CFR 1.1 and 1.20, and more closely reflect the organization of the Department as set out in Treasury Order 101-05, “Reporting Relationships and Supervision of Officials, Offices and Bureaus, Delegation of Certain Authority, and Order of Succession in the Department of the Treasury” dated February 19, 2008.

Language is being added to the first paragraph of Section 1.1 to permit offices and bureaus to issue supplementary regulations applicable only to the component in question, which are consistent with the regulations. This will conform 31 CFR Section 1.1 with the language found in 31 CFR Section 1.20. Another change is to consistently use the term “component” in Section 1.1 and 1.20 rather than using the term “offices and bureaus” in one and “components” in the other.

The document also amends 31 CFR part 1 and the FOIA and Privacy Act procedures of Treasury's Departmental Offices found in the appendices to subparts A and C of this Part. It reflects the creation of the Special Inspector General for the Troubled Asset Relief Program (SIGTARP) authorized under Section 121 of The Emergency Economic Stabilization Act of 2008 (“Act”), Public Law 110-343. As an independent office of the Department of Treasury, SIGTARP is responsible for coordinating and conducting audits and investigations of the Troubled Asset Relief Program established by the Secretary under the Act.

The passage of the Homeland Security Act of 2002 established the Alcohol and Tobacco Tax and Trade Bureau (TTB) as a bureau of the Department of the Treasury and transferred certain functions of the Bureau of Alcohol, Tobacco, and Firearms to the Department of Justice. Three other bureaus, the United States Customs Service, Federal Law Enforcement Training Center, and the United States Secret Service, were transferred to the Department of Homeland Security. This final rule makes the necessary housekeeping changes to reflect the transfer of these bureaus and functions to other Federal Departments and the establishment of SIGTARP by revising the list of Treasury bureaus and offices and re-designating the respective paragraphs of Sections 1.1 and 1.20.

As part of the review undertaken to identify minor changes to the regulations in Subpart C it was found that a system of records that had been deleted from the Department's inventory of systems of records on April 17, 1992, at 57 FR 13900 had not been removed from the list of Privacy Act systems of records for which an exemption has been claimed pursuant to 5 USC 552a (k)(2). The final regulation makes this correction to Section 1.36 of subpart C, Paragraph (g)(1)(v)(iii) by removing the system of records entitled “IRS 42.012-Combined Case Control File” from the table.

Appendix A to subpart A of Part 1 (FOIA) is being amended to update the titles of those officials who have been identified for receipt of FOIA requests, administrative appeals, and appellate determinations for requests for expedited processing.

Appendix A to subpart C of Part 1 (Privacy Act) is being amended to update the offices or titles of those who receive Privacy Act requests, requests for amendment of records or administrative appeal of an initial determination not to amend a record. In addition, the instructions found in this appendix for delivering requests personally to the Main Treasury Building are being deleted because of the increased security requirements caused by Treasury's proximity to the White House.

These regulations are being published as a final rule because the amendments do not impose any requirements on any member of the public and do not alter the procedures relating to the way in which the Departmental Offices currently handle FOIA and PA obligations. These amendments are the most efficient means for the Treasury Department to implement its internal requirements for complying with the FOIA and the Privacy Act. Accordingly, pursuant to 5 U.S.C. 553(b)(B) and (d)(3), the Department of the Treasury finds good cause that prior notice and other public procedure with respect to this rule are impracticable and unnecessary and finds good cause for making this rule effective on the date of publication in the Federal Register.

In accordance with Executive Order 12866, it has been determined that this final rule is not a “significant regulatory action” and, therefore, does not require a Regulatory Impact Analysis.

The regulation will not have a substantial direct effect on the States, on the relationship between the national Government and the States, or on the distribution of power and responsibilities among the various levels of government. Therefore, it is determined that this final rule does not have federalism implications under Executive Order 13132.

Because no notice of proposed rulemaking is required, the provisions of the Regulatory Flexibility Act (5 U.S.C. 601 et seq.) do not apply.

List of Subjects in 31 CFR Part 1

Freedom of Information; Privacy.

Part 1 of Title 31 of the Code of Federal Regulations is amended as follows:

PART 1—[AMENDED]

1. The authority citation for part 1 continues to read as follows:

Authority: 5 U.S.C. 301 and 31 U.S.C. 321. Subpart A also is issued under 5 U.S.C. 552, as amended. Subpart C also is issued under 5 U.S.C. 552a.

Subpart A—Freedom of Information Act

2. In § 1.1 revise paragraph (a) to read as follows:

§ 1.1 General.

(a) Purpose and scope. (1) This subpart contains the regulations of the Department of the Treasury implementing the Freedom of Information Act (FOIA), 5 U.S.C. 552, as amended by the Electronic Freedom of Information Act Amendments of 1996. The regulations set forth procedures for requesting access to records maintained by the Department of the Treasury. These regulations apply to all components of the Department of the Treasury. Any reference in this subpart to the Department or its officials, employees, or records shall be deemed to refer also to the components or their officials, employees, or records. Persons interested in the records of a particular component should also consult the appendix to this subpart that pertains to that component. In connection with such republication, and at other appropriate times, components may issue supplementary regulations applicable only to the component in question, which are consistent with these regulations. In the event of any actual or apparent inconsistency, these Departmental regulations shall govern. Persons interested in the records of a particular component should, therefore, also consult the Code of Federal Regulations for any rules or regulations promulgated specifically with respect to that component (see Appendices to this subpart for cross references). The head of each component is hereby authorized to substitute the officials designated and change the addresses specified in the appendix to this subpart applicable to the components. The components of the Department of the Treasury for the purposes of this subpart are the following offices and bureaus:

(i) The Departmental Offices, which include the offices of:

(A) The Secretary of the Treasury, including immediate staff;

(B) The Deputy Secretary of the Treasury, including immediate staff;

(C) The Chief of Staff, including immediate staff;

(D) The Executive Secretary of the Treasury and all offices reporting to such official, including immediate staff;

(E) Under Secretary (International Affairs) and all offices reporting to such official, including immediate staff;

(F) Assistant Secretary (International Economics and Development) and all offices reporting to such official, including immediate staff;

(G) Assistant Secretary (Financial Markets and Investment Policy) and all offices reporting to such official, including immediate staff;

(H) Under Secretary (Domestic Finance) and all offices reporting to such official, including immediate staff;

(I) Fiscal Assistant Secretary and all offices reporting to such official, including immediate staff;

(J) Assistant Secretary (Financial Institutions) and all offices reporting to such official, including immediate staff;

(K) Assistant Secretary (Financial Markets) and all offices reporting to such official, including immediate staff;

(L) Assistant Secretary (Financial Stability) and all offices reporting to such official, including immediate staff;

(M) Under Secretary (Terrorism & Financial Intelligence) and all offices reporting to such official, including immediate staff;

(N) Assistant Secretary (Terrorist Financing) and all offices reporting to such official, including immediate staff;

(O) Assistant Secretary (Intelligence and Analysis) and all offices reporting to such official, including immediate staff;

(P) General Counsel and all offices reporting to such official, including immediate staff; except legal counsel to the components listed in paragraphs (a)(1)(i)(W), (a)(1)(i)(X), (a)(1)(i)(Y), and (a)(1)(ii) through (x) of this section;

(Q) Treasurer of the United States including immediate staff;

(R) Assistant Secretary (Legislative Affairs) and all offices reporting to such official, including immediate staff;

(S) Assistant Secretary (Public Affairs) and all offices reporting to such official, including immediate staff;

(T) Assistant Secretary (Economic Policy) and all offices reporting to such official, including immediate staff;

(U) Assistant Secretary (Tax Policy) and all offices reporting to such official, including immediate staff;

(V) Assistant Secretary (Management) and Chief Financial Officer, and all offices reporting to such official, including immediate staff;

(W) The Inspector General, and all offices reporting to such official, including immediate staff;

(X) The Treasury Inspector General for Tax Administration, and all offices reporting to such official, including immediate staff;

(Y) The Special Inspector General for the Troubled Asset Relief Program, and all offices reporting to such official, including immediate staff;

(ii) Alcohol and Tobacco Tax and Trade Bureau.

(iii) Bureau of Public Debt.

(iv) Financial Management Service.

(v) Internal Revenue Service.

(vi) Comptroller of the Currency.

(vii) Office of Thrift Supervision.

(viii) Bureau of Engraving and Printing.

(ix) United States Mint.

(x) Financial Crimes Enforcement Network.

(2) For purposes of this subpart, the office of the legal counsel for the components listed in paragraphs (a)(1)(i)(W), (a)(1)(i)(X), (1)(i)(Y) and (a)(1)(ii) through (x) of this section, are to be considered a part of their respective component. Any office which is now in existence or may hereafter be established, which is not specifically listed or known to be a component of any of those listed above, shall be deemed a part of the Departmental Offices for the purpose of these regulations.

* * * * *

3. Appendix A to Subpart A of Part 1 is amended as follows:

a. In the third paragraph, remove the word “Assistant” from the second sentence.

b. In paragraph 4.(i), add the phrase “Special Inspector General for Troubled Assets Relief Program,” after the words “Treasury Inspector General for Tax Administration,” and before the words “Treasurer of the United States,”

c. In paragraph 4.(ii), by removing “Deputy Assistant Secretary (Administration),” and add in its place “Deputy Assistant Secretary for Privacy and Treasury Records.”

d. In paragraph 4. (iii) remove the word “Assistant”.

Subpart C—Privacy Act

4. In § 1.20, revise the section heading, introductory text, and paragraphs (a) through (j) to read as follows:

§ 1.20 Purpose and scope of regulation.

The regulations in this subpart are issued to implement the provisions of the Privacy Act of 1974 (5 U.S.C. 552a). The regulations apply to all records which are contained in systems of records maintained by the Department of the Treasury and which are retrieved by an individual's name or personal identifier. They do not relate to those personnel records of Government employees, which are under the jurisdiction of the Office of Personnel Management to the extent such records are subject to regulations issued by such OPM. The regulations apply to all components of the Department of the Treasury. Any reference in this subpart to the Department or its officials, employees, or records shall be deemed to refer also to the components or their officials, employees, or records. The regulations set forth the requirements applicable to Department of the Treasury employees maintaining, collecting, using or disseminating records pertaining to individuals. They also set forth the procedures by which individuals may request notification of whether the Department of the Treasury maintains or has disclosed a record pertaining to them or may seek access to such records maintained in any nonexempt system of records, request correction of such records, appeal any initial adverse determination of any request for amendment, or may seek an accounting of disclosures of such records. For the convenience of interested persons, the components of the Department of the Treasury may reprint these regulations in their entirety (less any appendices not applicable to the component in question) in those titles of the Code of Federal Regulations which normally contain regulations applicable to such components. In connection with such republication, and at other appropriate times, components may issue supplementary regulations applicable only to the component in question, which are consistent with these regulations. In the event of any actual or apparent inconsistency, these Departmental regulations shall govern. Persons interested in the records of a particular component should, therefore, also consult the Code of Federal Regulations for any rules or regulations promulgated specifically with respect to that component (see Appendices to this subpart for cross references). The head of each component is hereby also authorized to substitute other appropriate officials for those designated and correct addresses specified in the appendix to this subpart applicable to the component. The components of the Department of the Treasury for the purposes of this subpart are the following offices and bureaus:

(a) The Departmental Offices, which include the offices of:

(1) The Secretary of the Treasury, including immediate staff;

(2) The Deputy Secretary of the Treasury, including immediate staff;

(3) The Chief of Staff, including immediate staff;

(4) The Executive Secretary of the Treasury and all offices reporting to such official, including immediate staff;

(5) Under Secretary (International Affairs) and all offices reporting to such official, including immediate staff;

(6) Assistant Secretary (International Economics and Development) and all offices reporting to such official, including immediate staff;

(7) Assistant Secretary (Financial Markets and Investment Policy) and all offices reporting to such official, including immediate staff;

(8) Under Secretary (Domestic Finance) and all offices reporting to such official, including immediate staff;

(9) Fiscal Assistant Secretary and all offices reporting to such official, including immediate staff;

(10) Assistant Secretary (Financial Institutions) and all offices reporting to such official, including immediate staff;

(11) Assistant Secretary (Financial Markets) and all offices reporting to such official, including immediate staff;

(12) Assistant Secretary (Financial Stability) and all offices reporting to such official, including immediate staff;

(13) Under Secretary (Terrorism & Financial Intelligence) and all offices reporting to such official, including immediate staff;

(14) Assistant Secretary (Terrorist Financing) and all offices reporting to such official, including immediate staff;

(15) Assistant Secretary (Intelligence and Analysis) and all offices reporting to such official, including immediate staff;

(16) General Counsel and all offices reporting to such official, including immediate staff; except legal counsel to the components listed in paragraphs (a)(23), (a)(24), and (a)(25) and (b) through (j) of this section;

(17) Treasurer of the United States including immediate staff;

(18) Assistant Secretary (Legislative Affairs) and all offices reporting to such official, including immediate staff;

(19) Assistant Secretary (Public Affairs) and all offices reporting to such official, including immediate staff;

(20) Assistant Secretary (Economic Policy) and all offices reporting to such official, including immediate staff;

(21) Assistant Secretary (Tax Policy) and all offices reporting to such official, including immediate staff;

(22) Assistant Secretary (Management) and Chief Financial Officer, and all offices reporting to such official, including immediate staff;

(23) The Inspector General, and all offices reporting to such official, including immediate staff;

(24) The Treasury Inspector General for Tax Administration, and all offices reporting to such official, including immediate staff;

(25) The Special Inspector General for the Troubled Asset Relief Program, and all offices reporting to such official, including immediate staff;

(b) Alcohol and Tobacco Tax and Trade Bureau.

(c) Bureau of Public Debt.

(d) Financial Management Service.

(e) Internal Revenue Service.

(f) Comptroller of the Currency.

(g) Office of Thrift Supervision.

(h) Bureau of Engraving and Printing.

(i) United States Mint.

(j) Financial Crimes Enforcement Network. For purposes of this subpart, the office of the legal counsel for the components listed in paragraphs (a)(23), (a)(24), (a)(25), (b) through (j) of this section are to be considered a part of such components. Any office, which is now in existence or may hereafter be established, which is not specifically listed or known to be a component of any of those listed above, shall be deemed a part of the Departmental Offices for the purpose of these regulations.

* * * * *

§ 1.36 [Amended]

5. In § 1.36, paragraph (g)(1)(viii) is amended by removing “IRS 42.012-Combined Case Control File” from the table.

6. Appendix A to Subpart C of Part 1 is amended by: Departmental Offices:

a. In the second paragraph, by adding “Director, Disclosure Services” after the words “Privacy Act Request, DO” and before the words “Department of the Treasury,” and by removing the last sentence.

b. In the third paragraph, by adding “Director, Disclosure Services” after “DO,” and before the words “Department of the Treasury” in the last sentence of the paragraph.

c. In the fourth paragraph, by adding “Special Inspector General for Troubled Assets Relief Program,” after “General Counsel,” and before the words “or Assistant Secretary,” and by adding “Director, Disclosure Services” after the words “Privacy Act Amendment Request,” and before the words “Department of the Treasury,” and by removing the last sentence.

Dated: December 24, 2009.
Melissa Hartman,
Acting Deputy Assistant Secretary for Privacy and Treasury Records.

[FR Doc. E9-31150 Filed 1-5-10; 8:45 am]

BILLING CODE 4810-25-P